DEPARTMENT OF ENERGY

Federal Energy Regulatory Commission

Combined Notice of Filings

Take notice that the Commission has received the following Natural Gas Pipeline Rate and Refund Report filings:

Filings Instituting Proceedings

Docket Numbers: RP19-832-000.

Applicants: Golden Pass Pipeline LLC.

Description: Compliance filing Golden Pass Pipeline Revised Tariff Records Re: Order 587-Y to be effective 8/1/2019.

Filed Date: 3/14/19.

Accession Number: 20190314-5075.

Comments Due: 5 p.m. ET 3/26/19.

Docket Numbers: RP19-833-000.

Applicants: Texas Eastern Transmission, LP.

Description: Compliance filing Texas Industrial Market Expansion Project Compliance Filing CP18-10-000 to be effective 5/10/2019.

Filed Date: 3/14/19.

Accession Number: 20190314-5116.

Comments Due: 5 p.m. ET 3/26/19.

Docket Numbers: RP19-834-000.

Applicants: Empire Pipeline, Inc.

Description: Compliance filing Empire-NAESB v. 3.1 (Order No. 587-Y) to be effective 8/1/2019.

Filed Date: 3/14/19.

Accession Number: 20190314-5138.

Comments Due: 5 p.m. ET 3/26/19.

Docket Numbers: RP19-419-001.

Applicants: Tuscarora Gas Transmission Company.

Description: Compliance filing Tuscarora Interim Rates Filing to be effective 2/1/2019.

Filed Date: 3/15/19.

Accession Number: 20190315-5158.

Comments Due: 5 p.m. ET 3/27/19.

Docket Numbers: RP19-73-001.

Applicants: El Paso Natural Gas Company, L.L.C.

Description: Compliance filing Offer of Settlement for Docket No. RP19-73-000 to be effective 1/1/2019.

Filed Date: 3/15/19.

Accession Number: 20190315-5148.

Comments Due: 5 p.m. ET 3/25/19.

Docket Numbers: RP19-835-000.

Applicants: National Fuel Gas Supply Corporation.

Description: Compliance filing NAESB Version 3.1 (Order 587-Y) Supply to be effective 8/1/2019.

Filed Date: 3/15/19.

Accession Number: 20190315-5017.

Comments Due: 5 p.m. ET 3/27/19.

Docket Numbers: RP19-836-000.

Applicants: Rover Pipeline LLC.

Description: § 4(d) Rate Filing: Housekeeping Filing on 3-15-19 to be effective 4/15/2019.

Filed Date: 3/15/19.

Accession Number: 20190315-5042.

Comments Due: 5 p.m. ET 3/27/19.

Docket Numbers: RP19-837-000.

Applicants: Columbia Gas Transmission, LLC.

Description: § 4(d) Rate Filing: TCO Kaiser Amendments to be effective 3/15/2019.

Filed Date: 3/15/19.

Accession Number: 20190315-5045.

Comments Due: 5 p.m. ET 3/27/19.

Docket Numbers: RP19-838-000.

Applicants: ETC Tiger Pipeline, LLC.

Description: § 4(d) Rate Filing: Housekeeping on 3-15-19 to be effective 4/15/2019.

Filed Date: 3/15/19.

Accession Number: 20190315-5056.

Comments Due: 5 p.m. ET 3/27/19.

Docket Numbers: RP19-839-000.

Applicants: Vector Pipeline L.P.

Description: Compliance filing NAESB 3.1 Compliance Filing to be effective 8/1/2019.

Filed Date: 3/15/19.

Accession Number: 20190315-5057.

Comments Due: 5 p.m. ET 3/27/19.

Docket Numbers: RP19-840-000.

Applicants: Leaf River Energy Center LLC.

Description: § 4(d) Rate Filing: Revised Tariff Record Section 2—Preliminary Statement to be effective 4/1/2019.

Filed Date: 3/15/19.

Accession Number: 20190315-5146.

Comments Due: 5 p.m. ET 3/27/19.

Docket Numbers: RP19-841-000.

Applicants: Spire Storage West LLC.

Description: § 4(d) Rate Filing: Spire Storage West LLC—Proposed Tariff Changes to be effective 4/15/2019.

Filed Date: 3/15/19.

Accession Number: 20190315-5157.

Comments Due: 5 p.m. ET 3/27/19.

Docket Numbers: RP19-842-000.

Applicants: Vector Pipeline L.P.

Description: Annual Fuel Use Report for 2018 of Vector Pipeline L.P. RP19-842.

Filed Date: 3/15/19.

Accession Number: 20190315-5168.

Comments Due: 5 p.m. ET 3/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2019.
Nathaniel J. Davis, Sr.,
Deputy Secretary.

[FR Doc. 2019-05485 Filed 3-21-19; 8:45 am]

BILLING CODE 6717-01-P